DEPARTMENT OF ENERGY

Federal Energy Regulatory Commission

[Docket No. RP95-408-041]

Columbia Gas Transmission Corporation; Notice of Proposed Changes in FERC Gas Tariff

October 4, 2001.

Take notice that on September 28, 2001, Columbia Gas Transmission Corporation (Columbia) filed the following revised tariff sheets to its FERC Gas Tariff, Second Revised Volume No. 1 (“Tariff”) bearing a proposed effective date of November 1, 2001:

Fifty-second Revised Sheet No. 25

Fifty-second Revised Sheet No. 26

Fifty-second Revised Sheet No. 27

Twenty-third Revised Sheet No. 30A

Columbia states that this filing is being submitted pursuant to Stipulation I, Article I, Section E, True-up Mechanism, of the Settlement (Settlement) in Docket No. RP95-408, et al. Pursuant to the true-up mechanism, Columbia is required to true-up its collections from the Settlement Component for twelve-month periods commencing November 1, 1996. In accordance with the Settlement, the true-up component of the Settlement Component is to be removed effective November 1 of each year. The instant filing is being made to remove such true-up component from the currently effective Settlement Component effective November 1, 2001.

Columbia states that copies of its filing are available for inspection at its offices at 12801 Fair Lakes Parkway, Fairfax, Virginia; and 10 G Street, NE., Suite 580, Washington, DC; and have been mailed to all firm customers, interruptible customers, and affected state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25499 Filed 10-10-01; 8:45 am]

BILLING CODE 6717-01-P